DEPARTMENT OF DEFENSE

Office of the Secretary

[Docket No. DoD-2009-OS-0088]

Submission for OMB Review; Comment Request

ACTION: Notice.

The Department of Defense has submitted to OMB for clearance, the following proposal for collection of information under the provisions of the Paperwork Reduction Act (44 U.S.C. Chapter 35).

DATES: Consideration will be given to all comments received by March 8, 2010.

Title and OMB Number: Synchronized Predeployment and Operational Tracker (SPOT) System; OMB Control Number 0704-0460.

Type of Request: Extension.

Number of Respondents: 1,300 companies.

Responses per Respondent: 1 to 32,000 employees (average 231).

Annual Responses: 300,000.

Average Burden per Response: 30 minutes.

Annual Burden Hours: 150,000 hours (300,000 individual records × .5 hrs).

Needs and Uses: In accordance with section 861 of Public Law 110-181 and DoD Instruction 3020.41, “Contractor Personnel Authorized to Accompany the U.S. Armed Forces” and other appropriate policy, Memoranda of Understanding, and regulations, the DoD Components, the Department of State (DoS), and the United States Agency for International Development (USAID) shall ensure that contractors enter data into the Synchronized Predeployment and Operational Tracker (SPOT) System before deployment outside the United States.

Data collection on contractors is a condition of their contract when DFARS 252.225-7040 is incorporated and persons who choose not to have data collected will not be entitled to employment opportunities which require this data to be collected.

Affected Public: Business or other for-profit.

Frequency: On occasion.

Respondent's Obligation: Required to obtain or retain benefits.

OMB Desk Officer: Ms. Jasmeet Seehra.

Written comments and recommendations on the proposed information collection should be sent to Ms. Seehra at the Office of Management and Budget, Desk Officer for DoD, Room 10236, New Executive Office Building, Washington, DC 20503.

You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DOD Clearance Officer: Ms. Patricia Toppings.

Written requests for copies of the information collection proposal should be sent to Ms. Toppings at WHS/ESD/Information Management Division, 1777 North Kent Street, RPN, Suite 11000, Arlington, VA 22209-2133.

Dated: January 26, 2010.
Patricia L. Toppings,
OSD Federal Register Liaison Officer, Department of Defense.

[FR Doc. 2010-2452 Filed 2-4-10; 8:45 am]

BILLING CODE 5001-06-P